NATIONAL SCIENCE FOUNDATION

Sunshine Act Meetings

The National Science Board (NSB) hereby gives notice of the scheduling of meetings for the transaction of National Science Board business pursuant to the National Science Foundation Act and the Government in the Sunshine Act.

TIME AND DATE: Wednesday, August 3, 2022, from 1:00 p.m.-5:45 p.m., and Thursday, August 4, 2022, from 9:00 a.m.-2:30 p.m. EDT.

PLACE: These meetings will be held at NSF headquarters, 2415 Eisenhower Avenue, Alexandria, VA 22314, and by videoconference. To attend in-person, please email your name as it appears on your photo ID, along with your affiliation, at least 24 hours in advance to nationalsciencebrd@nsf.gov. If the COVID status for Alexandria, Virginia remains “medium” or goes to “high,” please fill out and bring OMB's certification of vaccination form with you. Visitors who are not vaccinated or refuse to divulge their vaccination status will not be admitted. All open sessions of the meeting will be webcast live on the NSB YouTube channel.

August 3, 2022: https://youtu.be/xz85K4mCmSs.

August 4, 2022: https://youtu.be/DS6jsZexews.

STATUS: Parts of these meetings will be open to the public. The rest of the meetings will be closed to the public. See full description below.

MATTERS TO BE CONSIDERED:

Wednesday, August 3, 2022

Plenary Board Meeting

Open Session: 1:00 p.m.-3:35 p.m.

• NSB Chair's Remarks

• NSF Director's Remarks

• Cool Science presentations

• Discussion with Under Secretary for Science and Innovation, US Department of Energy, Geraldine Richmond

• Antarctic Science Strategy

Closed Session: 3:35 p.m.-5:45 p.m.

• Antarctic Science Strategy

• NSB Chair's Remarks

• Approval of Prior Closed Meeting Minutes

• NSF Director's Remarks

Agency Operating Status

• Research Security Update

• Vote to Enter Executive Plenary Closed

• Executive Plenary Closed

• NSB Chair's Opening Remarks

• Approval of Prior Meeting Minutes

• Director's Remarks, including organizational updates

Thursday, August 4, 2022

Plenary Board

Open Session: 9:00 a.m.-10:05 a.m.

• NSB Chair Welcome and Remarks

• NSF Director's Remarks

Senior Staff Updates

OLPA Update Information Item

• Committee and Working Group Reports

• Committee on Oversight

• Committee on External Engagement

• Committee on Science and Engineering Policy

• Socioeconomic Status Working Group

Closed Session: 12:15 p.m.-1:55 p.m.

• NSB Chair's Opening Remarks

• Committee Reports

• Committee on Awards and Facilities Report

• MAGLab Vote

• NOIRLab Vote

• RCRV Vote

• SAGE-GAGE Vote

• LCCF Vote

• Committee on Strategy Report

• Subcommittee on Technology, Innovation, and Partnerships Report

Open Session: 2:05 p.m.-2:30 p.m.

• NSB Chair's Activities

• NSB 2023 Meeting Dates Vote

• Approval of Prior Meeting Minutes

• NSB Chair's Closing Remarks

• NSF Director's Closing Remarks

Meeting Adjourns: 2:30 p.m.

PORTIONS OPEN TO THE PUBLIC:

Wednesday, August 3, 2022

1:00 p.m.-3:35 p.m. Plenary NSB

Thursday, August 4, 2022

9:00 a.m.-10:05 a.m. Plenary NSB

2:05 p.m.—2:30 p.m. Plenary NSB

PORTIONS CLOSED TO THE PUBLIC:

Wednesday, August 3, 2022

3:35 p.m.-5:45 p.m. Plenary NSB, including executive closed items

Thursday, August 4, 2022

12:15 p.m.-1:55 p.m. Plenary NSB

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Chris Blair, cblair@nsf.gov, 703-292-7000. The NSB Public Affairs contact is Nadine Lymn, nlymn@nsf.gov, 703-292-2490. Please refer to the NSB website for additional information: https://www.nsf.gov/nsb.

Chris Blair,
Executive Assistant to the National Science Board Office.

[FR Doc. 2022-16455 Filed 7-27-22; 4:15 pm]

BILLING CODE 7555-01-P